INTERNATIONAL TRADE COMMISSION

[Investigation No. 731-TA-856 (Review)]

Ammonium Nitrate From Russia

Determination

On the basis of the record ¹ developed in the subject five-year review, the United States International Trade Commission (Commission) determines, pursuant to section 751(c) of the Tariff Act of 1930 (19 U.S.C. 1675(c)) (the Act), that termination of the suspended investigation on ammonium nitrate from Russia would be likely to lead to continuation or recurrence of material injury to an industry in the United States within a reasonably foreseeable time.

¹ The record is defined in sec. 207.2(f) of the Commission's Rules of Practice and Procedure (19 CFR 207.2(f)).

Background

The Commission instituted this review on March 31, 2005 (70 FR 16517) and determined on July 5, 2005 that it would conduct a full review (70 FR 41426, July 19, 2005). Notice of the scheduling of the Commission's review and of a public hearing to be held in connection therewith was given by posting copies of the notice in the Office of the Secretary, U.S. International Trade Commission, Washington, DC, and by publishing the notice in the Federal Register on September 9, 2005 (70 FR 53687). The hearing was held in Washington, DC, on January 19, 2006, and all persons who requested the opportunity were permitted to appear in person or by counsel.

The Commission transmitted its determination in this review to the Secretary of Commerce on March 27, 2006. The views of the Commission are contained in USITC Publication 3844 (March 2006), entitled Ammonium Nitrate from Russia: Investigation No. 731-TA-856 (Review).

Issued: March 27, 2006.
By order of the Commission.
Marilyn R. Abbott,
Secretary to the Commission.

[FR Doc. E6-4640 Filed 3-29-06; 8:45 am]

BILLING CODE 7020-02-P